UNITED STATES COMMISSION ON CIVIL RIGHTS

State Advisory Committees

AGENCY: United States Commission on Civil Rights.

ACTION: Notice of period during which individuals may apply to be appointed to the Colorado Advisory Committee, Louisiana Advisory Committee, Ohio Advisory Committee, and South Carolina Advisory Committee; request for applications.

SUMMARY: Because the terms of the members of the Colorado Advisory Committee are expiring on February 7, 2015, the United States Commission on Civil Rights hereby invites any individual who is eligible to be appointed to apply. The memberships are exclusively for the Colorado Advisory Committee, and applicants must be residents of Colorado to be considered. Letters of interest must be received by the Rocky Mountain Regional Office of the U.S. Commission on Civil Rights no later than November 1, 2014. Letters of interest must be sent to the address listed below.

Because the terms of the members of the Louisiana Advisory Committee are expiring on February 7, 2015, the United States Commission on Civil Rights hereby invites any individual who is eligible to be appointed to apply. The memberships are exclusively for the Louisiana Advisory Committee, and applicants must be residents of Louisiana to be considered. Letters of interest must be received by the Central Regional Office of the U.S. Commission on Civil Rights no later than November 1, 2014. Letters of interest must be sent to the address listed below.

Because the terms of the members of the Ohio Advisory Committee are expiring on February 7, 2015, the United States Commission on Civil Rights hereby invites any individual who is eligible to be appointed to apply. The memberships are exclusively for the Ohio Advisory Committee, and applicants must be residents of Ohio to be considered. Letters of interest must be received by the Midwestern Regional Office of the U.S. Commission on Civil Rights no later than November 1, 2014. Letters of interest must be sent to the address listed below.

Because the terms of the members of the South Carolina Advisory Committee are expiring on February 7, 2015, the United States Commission on Civil Rights hereby invites any individual who is eligible to be appointed to apply. The memberships are exclusively for the South Carolina Advisory Committee, and applicants must be residents of South Carolina to be considered. Letters of interest must be received by the Southern Regional Office of the U.S. Commission on Civil Rights no later than November 1, 2014. Letters of interest must be sent to the address listed below.

DATES: Letters of interest for membership on the Colorado Advisory Committee should be received no later than November 1, 2014.

Letters of interest for membership on the Louisiana Advisory Committee should be received no later than November 1, 2014.

Letters of interest for membership on the Ohio Advisory Committee should be received no later than November 1, 2014.

Letters of interest for membership on the South Carolina Advisory Committee should be received no later than November 1, 2014.

ADDRESSES: Send letters of interest for the Colorado Advisory Committee to: U.S. Commission on Civil Rights, Rocky Mountain Regional Office, 999 18th Street NW., Suite 1380 South, Denver, CO 80294. Letter can also be sent via email to ebohor@usccr.gov.

Send letters of interest for the Louisiana Advisory Committee to: U.S. Commission on Civil Rights, Central Regional Office, 400 State Avenue, Suite 908, Kansas City, KS 66101. Letter can also be sent via email to csanders@usccr.gov.

Send letters of interest for the Ohio Advisory Committee to: U.S. Commission on Civil Rights, Midwestern Regional Office, 55 W. Monroe St., Suite 410, Chicago, IL 60603. Letter can also be sent via email to callen@usccr.gov.

Send letters of interest for the South Carolina Advisory Committee to: U.S. Commission on Civil Rights, Southern Regional Office, 61 Forsyth St. SW., Suite 16T126, Atlanta, GA 30303. Letters can also be sent via email to jhinton@usccr.gov.

FOR FURTHER INFORMATION CONTACT: David Mussatt, Chief, Regional Programs Unit, 55 W. Monroe St., Suite 410, Chicago, IL 60603, (312) 353-8311. Questions can also be directed via email to dmussatt@usccr.gov.

SUPPLEMENTARY INFORMATION: The Colorado, Louisiana, Ohio, and South Carolina Advisory Committees (SACs) are statutorily mandated federal advisory committees of the U.S. Commission on Civil Rights pursuant to 42 U.S.C. 1975a. Under the charter for the SACs, the purpose is to provide advice and recommendations to the U.S. Commission on Civil Rights (Commission) on a broad range of civil rights matters in its respective state that pertain to alleged deprivations of voting rights or discrimination or denials of equal protection of the laws because of race, color, religion, sex, age, disability, or national origin, or the administration of justice. SACs also provide assistance to the Commission in its statutory obligation to serve as a national clearinghouse for civil rights information.

The SAC consists of not more than 19 members, each of whom will serve a two-year term. Members serve as unpaid Special Government Employees who are reimbursed for travel and expenses. To be eligible to be on a SAC, applicants must be residents of the respective state and have demonstrated expertise or interest in civil rights issues.

The Commission is an independent, bipartisan agency established by Congress in 1957 to focus on matters of race, color, religion, sex, age, disability, or national origin. Its mandate is to:

• Investigate complaints from citizens that their voting rights are being deprived,

• Study and collect information about discrimination or denials of equal protection under the law,

• Appraise federal civil rights laws and policies,

• Serve as a national clearinghouse on discrimination laws,

• Submit reports and findings and recommendations to the President and the Congress, and

• Issue public service announcements to discourage discrimination.

The Commission invites any individual who is eligible to be appointed a member of the Colorado, Louisiana, Ohio, or South Carolina Advisory Committee covered by this notice to send a letter of interest and a resumé to the respective address above.

Dated in Chicago, IL, on October 1, 2014.
David Mussatt,
Chief, Regional Programs Unit.

[FR Doc. 2014-23746 Filed 10-3-14; 8:45 am]

BILLING CODE P